DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified Base (1% annual-chance) Flood Elevations (BFEs) are finalized for the communities listed below. These modified BFEs will be used to calculate flood insurance premium rates for new buildings and their contents.

EFFECTIVE DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Doug Bellomo, P.E., Hazard Identification Section, Mitigation Division, Emergency Preparedness and Response Directorate, FEMA, 500 C Street, SW., Washington, DC 20472, (202) 646-2903.

SUPPLEMENTARY INFORMATION: FEMA makes the final determinations listed below of the modified BFEs for each community listed. These modified BFEs have been published in newspapers of local circulation and ninety (90) days have elapsed since that publication.

The Mitigation Division Director of the Emergency Preparedness and Response Directorate has resolved any appeals resulting from this notification.

The modified BFEs are not listed for each community in this notice. However, this rule includes the address of the Chief Executive Officer of the community where the modified BFEs determinations are available for inspection.

The modified BFEs are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, state, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order12612, Federalism, dated October 26, 1987.

Executive Order 12778, Civil Justice Reform

This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Arizona: Maricopa (FEMA Docket No.: B-7440) | Town of Gila Bend (02-09-807P), (02-09-857P) | August 7, 2003; August 14, 2003; Arizona Business Gazette | The Honorable Chuck Turner, Mayor, Town of Gila Bend, P.O. Box A, Gila Bend, Arizona 85337 | November 13, 2003 | 040043
Arizona: Maricopa (FEMA Docket No.: B-7440) | City of Phoenix (03-09-0522P) | August 7, 2003; August 14, 2003; Arizona Business Gazette | The Honorable Skip Rimsza, Mayor, City of Phoenix, 200 West Washington Street, 11th Floor, Phoenix, Arizona 85003 | November 13, 2003 | 040051
Arizona: Maricopa (FEMA Docket No.: B-7440) | City of Scottsdale (03-09-0482P) | July 24, 2003; July 31, 2003; Arizona Business Gazette | The Honorable Mary Manross, Mayor, City of Scottsdale, 3939 North Drinkwater Boulevard, Scottsdale, Arizona 85251 | October 23, 2003 | 045012
Arizona: Maricopa (FEMA Docket No.: B-7440) | Unincorporated Areas (02-09-807P), (02-09-857P) | August 7, 2003; August 14, 2003; Arizona Business Gazette | The Honorable R. Fulton Brock, Chairman, Maricopa County Board of Supervisors, 301 West Jefferson, 10th Floor, Phoenix, Arizona 85003 | November 13, 2003 | 040037
Arizona: Maricopa (FEMA Docket No.: B-7440) | Unincorporated Areas (02-09-1240P) | August 7, 2003; August 14, 2003; Arizona Republic | The Honorable R. Fulton Brock, Chairman, Maricopa County Board of Supervisors, 301 West Jefferson, 10th Floor, Phoenix, Arizona 85003 | November 13, 2003 | 040037
Arizona: Pima (FEMA Docket No.: B-7440) | Unincorporated Areas (01-09-407P) | July 24, 2003; July 31, 2003; Tucson Citizen | The Honorable Sharon Bronson, Chair, Pima County Board of Supervisors, 130 West Congress, 11th Floor, Tucson, Arizona 85701 | June 30, 2003 | 040073
Arizona: Yavapai (FEMA Docket No.: B-7440) | Town of Prescott Valley (03-09-0757P) | July 31, 2003; August 7, 2003; Prescott Daily Courier | The Honorable Richard Killingsworth, Mayor, Town of Prescott Valley, Civic Center, 7501 East Civic Circle, Prescott Valley, Arizona 86314 | November 6, 2003 | 040121
California: Contra Costa (FEMA Docket No.: B-7440) | City of Concord (03-09-0859P) | September 4, 2003; September 11, 2003; Contra Costa Times | The Honorable Mark Peterson, Mayor, City of Concord, Concord City Hall, 1950 Parkside Drive, Concord, California 94519 | August 11, 2003 | 065022
California: Contra Costa (FEMA Docket No.: B-7440) | City of Richmond (03-09-1116P) | September 18, 2003; September 25, 2003; Contra Costa Times | The Honorable Irma Anderson, Mayor, City of Richmond, 2600 Barrett Avenue, Third Floor, Richmond, California 94804 | August 27, 2003 | 060035
California: Mendocino (FEMA Docket No.: B-7440) | City of Ukiah (03-09-0317P) | October 2, 2003; October 9, 2003; Ukiah Daily Journal | The Honorable Eric Larson, Mayor, City of Ukiah, 300 Seminary Avenue, Ukiah, California 95482 | September 11, 2003 | 060186
California: Mendocino (FEMA Docket No.: B-7440) | Unincorporated Areas (03-09-0317P) | October 2, 2003; October 9, 2003; Ukiah Daily Journal | The Honorable Richard Shoemaker, Chairman, Mendocino County Board of Supervisors, 501 Low Gap Road, Room 1090, Ukiah, California 95482 | September 11, 2003 | 060183
California: Riverside (FEMA Docket No.: B-7440) | City of Temecula (02-09-1365P) | July 31, 2003; August 7, 2003; Press Enterprise | The Honorable Jeff Stone, Mayor, City of Temecula, P.O. Box 9033, Temecula, California 92589-9033 | November 6,2003 | 060742
California: Sacramento (FEMA Docket No.: B-7440) | Unincorporated Areas (03-09-0432P) | August 7, 2003; August 14, 2003; Daily Recorder | The Honorable Illa Collin, Chair, Sacramento County Board of Supervisors, 700 H Street, Room 2450, Sacramento, California 95814 | July 21, 2003 | 060262
California: San Bernardino (FEMA Docket No.: B-7440) | City of Yucaipa (03-09-0821P) | September 18, 2003; September 25, 2003; San Bernardino County Sun | The Honorable Dick Riddell, Mayor, City of Yucaipa, 34272 Yucaipa Boulevard, Yucaipa, California 92399 | September 2, 2003 | 060739
California: San Diego (FEMA Docket No.: B-7440) | City of San Diego (03-09-1057P) | August 14, 2003; August 21, 2003; San Diego Daily Transcript | The Honorable Richard M. Murphy, Mayor, City of San Diego, 202 C Street, 11th Floor, San Diego, California 92101 | November 20, 2003 | 060295
California: San Diego (FEMA Docket No.: B-7440) | City of San Diego (03-09-0450P) | September 18, 2003; September 25, 2003; San Diego Union-Tribune | The Honorable Richard M. Murphy, Mayor, City of San Diego, 202 C Street, 11th Floor, San Diego, California 92101 | August 21, 2003 | 060295
California: Santa Barbara (FEMA Docket No.: B-7440) | City of Santa Barbara (01-09-220P) | October 9, 2003; October 16, 2003; Santa Barbara News Press | The Honorable Marty Blum, Mayor, City of Santa Barbara, P.O. Box 1990, Santa Barbara, California 93102-1990 | January 15, 2004 | 060335
Colorado: Arapahoe (FEMA Docket No.: B-7440) | Unincorporated Areas (03-08-0362P) | August 14, 2003; August 21, 2003; Denver Post | The Honorable Marie Mackenzie, Chair, Arapahoe County Board of Commissioners, 5334 South Prince Street, Littleton, Colorado 80166-0060 | July 24, 2003 | 080011
Colorado: Denver (FEMA Docket No.: B-7440) | City and County of Denver (03-08-0362P) | August 14, 2003; August 21, 2003; Denver Post | The Honorable John W. Hickenlooper, Mayor, City and County of Denver, 1437 Bannock Street, Suite 350, Denver, Colorado 80202 | July 24, 2003 | 080046
Colorado: El Paso (FEMA Docket No.: B-7438) | City of Colorado Springs (02-08-394P) | April 24, 2003; May 1, 2003; The Gazette | The Honorable Lionel Rivera, Mayor, City of Colorado Springs, P.O. Box 1575, Colorado Springs, Colorado 80901-1575 | July 31, 2003 | 080060
Colorado: El Paso (FEMA Docket No.: B-7440) | City of Colorado Springs (03-08-0212P) | August 14, 2003; August 21, 2003; The Gazette | The Honorable Lionel Rivera, Mayor, City of Colorado Springs, P.O. Box 1575, Colorado Springs, Colorado 80901-1575 | October 9, 2003 | 080060
Colorado: El Paso (FEMA Docket No.: B-7440) | City of Colorado Springs (01-08-177P) | October 9, 2003; October 16, 2003; The Gazette | The Honorable Lionel Rivera, Mayor, City of Colorado Springs, P.O. Box 1575, Colorado Springs, Colorado 80901-1575 | January 15, 2004 | 080060
Colorado: El Paso (FEMA Docket No.: B-7440) | Unincorporated Areas (03-08-0385P) | August 20, 2003; August 27, 2003; El Paso County News | The Honorable Chuck Brown, Chairman, El Paso County Board of Commissioners, 27 East Vermijo Avenue, Colorado Springs, Colorado 80903-2208 | November 26, 2003 | 080059
Colorado: El Paso (FEMA Docket No.: B-7440) | Unincorporated Areas (01-08-177P) | October 9, 2003; October 16, 2003; The Gazette | The Honorable Chuck Brown, Chairman, El Paso County Board of Commissioners, 27 East Vermijo Avenue, Colorado Springs, Colorado 80903-2208 | January 15, 2004 | 080059
Colorado: Jefferson (FEMA Docket No.: B-7440) | City of Lakewood (03-08-0167P) | June 19, 2003; August 7, 2003; Lakewood Sentinel | The Honorable Steve Burkholder, Mayor, City of Lakewood, 480 South Allison Parkway, Lakewood, Colorado 80226-3127 | September 25, 2003 | 085075
Hawaii: Hawaii (FEMA Docket No.: B-7440) | Hawaii County (03-09-0853P) | August 7, 2003; August 14, 2003; Hawaii Tribune Herald | The Honorable Harry Kim, Mayor, Hawaii County, 25 Aupuni Street, Hilo, Hawaii 96720 | July 15, 2003 | 155166
Idaho: Gem (FEMA Docket No.: B-7440) | Unincorporated Areas (03-10-0299P) | August 31, 2003; September 7, 2003; Idaho Press Tribune | The Honorable Ed Mansfield, Chairman, Gem County Board of Commissioners, 415 East Main Street, Emmett, Idaho 83617 | December 4, 2003 | 160127
Nevada: Clark (FEMA Docket No.: B-7440) | Unincorporated Areas (03-09-1569P) | October 2, 2003; October 9, 2003; Las Vegas Review—Journal | The Honorable Mary Kincaid-Chauncey, Chair, Clark County Board of Commissioners, 500 South Grand Central Parkway, Las Vegas, Nevada 89155 | September 11, 2003 | 320003
Texas: Collin (FEMA Docket No.: B-7440) | City of Frisco (01-06-1415P) | August 8, 2003; August 15, 2003; Frisco Enterprise | The Honorable Mike Simpson, Mayor, City of Frisco, 6891 Main Street, Frisco, Texas 75034 | November 14, 2003 | 480134
Washington: Thurston (FEMA Docket No.: B-7440) | City of Olympia (03-10-0337P) | September 18, 2003; September 25, 2003, The Olympian | The Honorable Stan Biles, Mayor, City of Olympia, P.O. Box 1967, Olympia, Washington 98507-1967 | December 26, 2003 | 530191
Washington: Thurston (FEMA Docket No.: B-7440) | City of Tumwater (03-10-0337P) | September 18, 2003; September 25, 2003; The Olympian | Hon. Ralph C. Osgood, Mayor, City of Tumwater, 555 Israel Road Southwest, Tumwater, Washington 98501 | December 26, 2003 | 530192
Washington: Thurston (FEMA Docket No.: B-7440) | Unincorporated Areas (03-10-0337P) | September 18, 2003; September 25, 2003; The Olympian | The Honorable Cathy Wolfe, Chair, Thurston County Board of Commissioners, Building 1, Room 269, 2000 Lakeridge Drive Southwest, Olympia, Washington 98502-6045 | December 26, 2003 | 530188

(Catalog of Federal Domestic Assistance No. 83.100, “Flood Insurance.”)
Dated: March 3, 2004.
Anthony S. Lowe,
Mitigation Division Director, Emergency Preparedness and Response Directorate.

[FR Doc. 04-5748 Filed 3-12-04; 8:45 am]

BILLING CODE 9110-11-P